FEDERAL COMMUNICATIONS COMMISSION

47 CFR Part 20

[CC Docket No. 94-54; FCC 00-251]

Interconnection and Resale Obligations Pertaining to Commercial Mobile Radio Services; Correction

AGENCY: Federal Communications Commission.

ACTION: Final rule; correction.

SUMMARY: On September 29, 2000, the Commission published a document in the Federal Register which established service rules governing the manual roaming responsibilities of Commercial Mobile Radio Services (CMRS) providers. This document makes corrections to that document.

DATES: Effective November 28, 2000.

FOR FURTHER INFORMATION CONTACT: Paul Murray at (202) 418-7240.

SUPPLEMENTARY INFORMATION: The Commission, in its summary of the Memorandum Opinion and Order (MO&O), FR Doc. 00-24964, published in the Federal Register of September 29, 2000 (65 FR 58477) released information that requires correction. First, it misstated the correct agency docket number for the item (CC Docket No. 94-54) in the headings section. Then, in the SUPPLEMENTARY INFORMATION section of the preamble, the Commission erroneously incorporated a docket number and the associated adoption and release dates from another proceeding into this item thereby omitting the correct docket number for this proceeding (CC Docket No. 94-54), the correct adoption date of the MO&O (July 13, 2000), and the correct release date of the MO&O (August 28, 2000). Further, this item corrects the phone listing for Paul Murray to 418-7240.

In FR Doc. 00-24964, published in the Federal Register of September 29, 2000 (65 FR 58477), make the following corrections:

(1) On page 58477, in the second column, in the Agency Docket number, correct “PR Docket No. 94-54” to read “CC Docket No. 94-54.”

(2) On the same page, in the third column, line four, correct “(202) 418-0688” to read “(202) 418-7240.”

(3) On the same page, in the same column, line 11, correct “PR Docket No. 93-144” to read “CC Docket No. 94-54.”

(4) On the same page, in the same column, line 12, correct “August 2, 2000” to read “July 13, 2000.”

(5) On the same page, in the same column, lines 12 and 13, correct “August 4, 2000” to read “August 28, 2000.”

Federal Communications Commission.
Magalie Roman Salas,
Secretary.

[FR Doc. 00-26893 Filed 10-18-00; 8:45 am]

BILLING CODE 6712-01-P